DEPARTMENT OF JUSTICE

Federal Bureau of Investigation

[OMB Number 1110-0039]

Agency Information Collection Activities; Proposed eCollection eComments Requested; Revision of a Currently Approved Collection Bioterrorism Preparedness Act: Entity/Individual Information

AGENCY: Federal Bureau of Investigation, Criminal Justice Information Services Division, Department of Justice.

ACTION: 60-Day notice.

SUMMARY: The Department of Justice (DOJ), Federal Bureau of Investigation (FBI), Criminal Justice Information Services (CJIS) Division will be submitting the following information collection request to the Office of Management and Budget (OMB) for review and approval in accordance with the Paperwork Reduction Act of 1995. The proposed information collection is published to obtain comments from the public and affected agencies.

DATES: Comments are encouraged and will be accepted for 60 days until May 3, 2021.

FOR FURTHER INFORMATION CONTACT: If you have additional comments especially on the estimated public burden or associated response time, suggestions, or need a copy of the proposed information collection instrument with instructions or additional information, please contact James J. Sheets, Biometric Services Section, Identity Management Unit, Federal Bureau of Investigation, CJIS Division, Biometric Technology Center, 1000 Custer Hollow Road, Clarksburg, West Virginia 26306.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Federal Bureau of Investigation Bioterrorism Preparedness Act: Entity/Individual Information.

3. The agency form number, if any, and the applicable component of the Department sponsoring the collection: The form is FD-961. The applicable component within the Criminal Justice Information Services Division, Department of Justice (DOJ), Federal Bureau of Investigation (FBI).

4. Affected public who will be asked or required to respond, as well as a brief abstract:.

Primary: City, country, state, federal, individuals, business or other for profit, and not-for-profit institute. This collection is needed to receive names and other identifying information submitted by individuals requesting access to specific agents or toxins, and consult with appropriate officials of the Department of Health and Human Services and the Department of Agriculture as to whether certain individuals specified in the provisions should be denied access to or granted limited access to specific agents.

5. An estimate of the total number of respondents and the amount of time estimated for an average respondent to respond: There are approximately 3,655 (FY 2020) and respondents at 1 hour 30 minutes for the FD-961 form.

6. An estimate of the total public burden (in hours) associated with the collection: The estimated public burden associated with this collection is approximately 5,483 hours annual burden, associated with this information collection.

If additional information is required contact: Melody Braswell, Department Clearance Officer, United States Department of Justice, Justice Management Division, Policy and Planning Staff, Two Constitution Square, 145 N Street NE, 3E.405A, Washington, DC 20530.

Dated: February 24, 2021.
Melody Braswell,
Department Clearance Officer for PRA, U.S. Department of Justice.

[FR Doc. 2021-04208 Filed 3-1-21; 8:45 am]

BILLING CODE 4410-02-P